NUCLEAR REGULATORY COMMISSION

[NRC-2015-0187]

Human Factors Engineering

AGENCY: Nuclear Regulatory Commission.

ACTION: Standard review plan-draft section revision; reopening of comment period.

SUMMARY: On August 10, 2015, the U.S. Nuclear Regulatory Commission (NRC) solicited comments on the draft NUREG-0800, “Standard Review Plan for the Review of Safety Analysis Reports for Nuclear Power Plants: LWR Edition,” Section 18.0, “Human Factors Engineering.” The public comment period closed on October 9, 2015. The NRC has decided to reopen the public comment period to allow more time for members of the public to develop and submit their comments and to hold a public meeting concerning the Standard Review Plan (SRP), Section 18.0.

DATES: The comment period for the document published on August 10, 2015 (80 FR 47958), has been reopened. Comments should be filed no later than March 11, 2016. Comments received after this date will be considered, if it is practical to do so, but the Commission is able to ensure consideration only for comments received on or before this date.

ADDRESSES: You may submit comments by any of the following methods (unless this document describes a different method for submitting comments on a specific subject):

• Federal Rulemaking Web site: Go to http://www.regulations.gov and search for Docket ID NRC-2015-0187. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: O12-H08, U.S. Nuclear Regulatory Commission, Washington, DC 20555-0001.

For additional direction on obtaining information and submitting comments, see “Obtaining Information and Submitting Comments” in the SUPPLEMENTARY INFORMATION section of this document.

FOR FURTHER INFORMATION CONTACT: Mark D. Notich, Office of New Reactors, U.S. Nuclear Regulatory Commission, Washington, DC 20555-0001, telephone: 301-415-3053, email: Mark.Notich@nrc.gov.

SUPPLEMENTARY INFORMATION:

I. Obtaining Information and Submitting Comments

A. Obtaining Information

Please refer to Docket ID NRC-2015-0187 when contacting the NRC about the availability of information for this action. You may obtain publicly-available information related to this action by any of the following methods:

• Federal Rulemaking Web site: Go to http://www.regulations.gov and search for Docket ID NRC-2015-0187.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for this document is ML13108A095.

• NRC's PDR: You may examine and purchase copies of public documents at the NRC's PDR, Room O1-F21, One White Flint North, 11555 Rockville Pike, Rockville, Maryland 20852.

B. Submitting Comments

Please include Docket ID NRC-2015-0187 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

On August 10, 2015, the NRC solicited comments on the draft revision of NUREG-0800, revision 3 of SRP Section 18.0, “Human Factors Engineering.” The public comment period originally closed on October 9, 2015 (80 FR 47958). Due to requests from the public for an extension of the comment period and a request for a public meeting with the staff concerning questions and comments about SRP Section 18.0, the staff is re-opening the comment period for SRP Section 18.0 until March 11, 2016.

Dated at Rockville, Maryland, this 17th day of February, 2016.
For the Nuclear Regulatory Commission.
Tanya Smith,
Chief, New Reactor Rulemaking and Guidance Branch, Division of Engineering, Infrastructure, and Advanced Reactors, Office of New Reactors.

[FR Doc. 2016-03904 Filed 2-23-16; 8:45 am]

BILLING CODE 7590-01-P